NATIONAL CREDIT UNION ADMINISTRATION

Notice of Change in Date of Meeting

The National Credit Union Administration Board voted to reschedule the date of the previously announced open Board meeting (Federal Register, Vol. 68, No. 178, page 54021, September 15, 2003) scheduled for Thursday, September 18, 2003, at 10 a.m., because of the Federal Government closure due to Hurricane Isabel. The meeting will be held Wednesday, September 24, at 10 a.m. Earlier announcement of this change was not practicable.

Matters to be considered are as follows:

1. Requests from Two (2) Federal Credit Unions to Convert to Community Charters.

2. Proposed Rule: Part 708a of NCUA's Rules and Regulations, Conversion of Insured Credit Unions to Mutual Savings Banks.

3. Proposed Rule: Sections 701.20 and 741.2 of NCUA's Rules and Regulations, Suretyship and Guaranty; Maximum Borrowing Authority.

4. Final Rule: Parts 723, 702, 704, 712, and 742 of NCUA's Rules and Regulations, Member Business Loans.

FOR FURTHER INFORMATION CONTACT: Becky Baker, Secretary of the Board, Telephone: (703) 518-63004.

Becky Baker,
Secretary of the Board.

[FR Doc. 03-24287 Filed 9-22-03; 2:00 pm]

BILLING CODE 7535-01-M